INTERNATIONAL TRADE COMMISSION

[Investigation Nos. 701-TA-432 and 731-TA-1024-1028 (Second Review) and AA1921-188 (Fourth Review)]

Prestressed Concrete Steel Wire Strand From Brazil, India, Japan, Korea, Mexico, and Thailand

Determinations

On the basis of the record ¹ developed in the subject five-year reviews, the United States International Trade Commission (“Commission”) determines, pursuant to section 751(c) of the Tariff Act of 1930 (19 U.S.C. 1675(c)), that revocation of the countervailing duty order on prestressed concrete steel wire strand (“PC strand”) from India, the antidumping duty orders on PC strand from Brazil, India, Korea, Mexico, and Thailand, as well as the antidumping duty finding on PC strand from Japan, would be likely to lead to continuation or recurrence of material injury to an industry in the United States within a reasonably foreseeable time.

¹ The record is defined in sec. 207.2(f) of the Commission's Rules of Practice and Procedure (19 CFR 207.2(f)).

Background

The Commission instituted these reviews on November 3, 2014 (79 FR 65246) and determined on February 6, 2015, that it would conduct expedited reviews (80 FR 9747, February 24, 2015).

The Commission completed and filed its determinations in these reviews on April 10, 2015. The views of the Commission are contained in USITC Publication 4527 (April 2015), entitled Prestressed Concrete Steel Wire Strand from Brazil, India, Japan, Korea, Mexico, and Thailand: Investigation Nos. 701-TA-432 and 731-TA-1024-1028 (Second Review) and AA1921-188 (Fourth Review).

By order of the Commission.
Issued: April 10, 2015.
Lisa R. Barton,
Secretary to the Commission.

[FR Doc. 2015-08671 Filed 4-14-15; 8:45 am]

BILLING CODE 7020-02-P